DEPARTMENT OF VETERANS AFFAIRS

Advisory Committee on Gulf War Veterans; Notice of Meeting

The Department of Veterans Affairs (VA) gives notice under Public Law 92-463 (Federal Advisory Committee Act) that the Advisory Committee on Gulf War Veterans will hold a meeting on February 18-19, 2009, in Room 1C182 at the Atlanta VA Medical Center, 1670 Clairmont Road, Decatur, Georgia, from 9 a.m. to 5 p.m. each day. The meeting is open to the public.

The purpose of the Committee is to provide advice and recommendations to the Secretary of Veterans Affairs on issues that are unique to veterans who served in the Southwest Asian theater of operations during 1990-1991 period of the Gulf War.

On February 18, the Committee will receive briefings from VA's healthcare and benefits staff, a member from the Centers for Disease Control and members of the Fort McPherson U.S. Army Reserve Command. On February 19, the Committee will receive briefings from representatives from Georgia, Alabama, and South Carolina Departments of Veterans Affairs. In the afternoon, the Committee will meet with a panel of Gulf War veterans living in the Atlanta area who served in the Southwest Asia theater of operations during 1990-1991.

Veterans wishing to be panel participants should contact Lelia Jackson at (202) 461-5758 or via e-mail at lelia.jackson@va.gov. Additional public comments will be received from 1 p.m. until 1:30 p.m. Individuals wishing to speak must register not later than February 13, by contacting Ms. Jackson and by submitting 1-2 page summaries of their comments for inclusion in the official record. Public comments will be limited to five minutes each. A sign-in sheet will be available. Members of the public may also submit written statements for the Committee's review to the Advisory Committee on Gulf War Veterans, Department of Veterans Affairs, 810 Vermont Avenue, NW., Washington, DC 20420.

Interested parties may also listen in by teleconferencing into the meeting. The toll-free teleconference line will be open from 9 a.m. until 5 p.m. each day. To register for the teleconference, please contact Ms. Jackson at (202) 461-5758 or via e-mail at lelia.jackson@va.gov by February 13, 2009.

Any member of the public seeking additional information should contact Laura O'Shea, Designated Federal Officer, at (202) 461-5765.

Dated: January 27, 2009.
E. Philip Riggin,
Committee Management Officer.

[FR Doc. E9-2248 Filed 2-2-09; 8:45 am]

BILLING CODE 8320-01-P